FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 018442N.

Name: AAC Perishables Logistics, Inc.

Address: 6300 NW 97th Ave., Miami, FL 33178.

Date Revoked: January 6, 2006.

Reason: Failed to maintain a valid bond.

License Number: 014935N.

Name: A.S.E. Customs & Logistics, Inc. dba Anchor Staff Express.

Address: 2549 W. Golf Road, Ste. 224, Hoffman Estates, IL 60194.

Date Revoked: January 5, 2006.

Reason: Failed to maintain a valid bond.

License Number: 003042F.

Name: Amco Brokers and Forwarders, Inc.

Address: 120 Dunmar Building North, 2700 Broening Highway, Baltimore, MD 21222.

Date Revoked: January 23, 2006.

Reason: Surrendered license voluntarily.

License Number: 004049NF.

Name: Anthem World Transport, Inc.

Address: Galle Marginal K-2, Office 3, Martinez Nadel Ave., Oasis Gardens, Guaynabo, PR 00969.

Date Revoked: February 24, 2006.

Reason: Failed to maintain valid bonds.

License Number: 000091F.

Name: Atlas Forwarding Company, Inc.

Address: 101 N. Riverside Drive, Pompano Beach, FL 33062.

Date Revoked: February 19, 2006.

Reason: Failed to maintain a valid bond.

License Number: 013552N.

Name: Boston Shipping Enterprises, Inc.

Address: 506 Decatur Street, Brooklyn, NY 11233.

Date Revoked: January 5, 2006.

Reason: Failed to maintain a valid bond.

License Number: 002586F.

Name: CBE USA International Inc.

Address: 8451 Market Street, Houston, TX 77029.

Date Revoked: February 19, 2006.

Reason: Failed to maintain a valid bond.

License Number: 014433N.

Name: Chartwell Navigation, Inc.

Address: 20 Heather Lane, Belle Mead, NJ 08502.

Date Revoked: February 15, 2006.

Reason: Surrendered license voluntarily.

License Number: 017949N.

Name: China Linq, LLC.

Address: 20675 Manhattan Place, Torrance, CA 90501.

Date Revoked: February 9, 2006.

Reason: Failed to maintain a valid bond.

License Number: 008358N.

Name: CUK Lines, Inc.

Address: 575 Sullivan Road, Suite A, Atlanta, GA 30349.

Date Revoked: January 5, 2006.

Reason: Failed to maintain a valid bond.

License Number: 017126N.

Name: Daily Freight Cargo, Corp.

Address: 8426 NW 70th Street, Miami, FL 33166.

Date Revoked: January 6, 2006.

Reason: Failed to maintain a valid bond.

License Number: 017852F.

Name: Diaz & Flores, Inc. U.S. Customs Brokers.

Address: Mai Bldg., Suite 210, Kennedy Ave., 2000, San Juan, PR 00920.

Date Revoked: February 7, 2006.

Reason: Surrendered license voluntarily.

License Number: 008333F.

Name: Future Freight Systems Inc.

Address: 48 Third Street, So. Kearny, NJ 07032.

Date Revoked: March 3, 2006.

Reason: Failed to maintain a valid bond.

License Number: 014996N.

Name: Hal-Mari, Inc.

Address: 3000 Wilcrest Drive, Ste. #110, Houston, TX 77042.

Date Revoked: February 24, 2006.

Reason: Surrendered license voluntarily.

License Number: 001547F.

Name: J.B. Fong & Co., Inc. dba J.B. Fong & Co.

Address: 838 Grant Ave., Ste. 409, San Francisco, CA 94108.

Date Revoked: February 17, 2006.

Reason: Failed to maintain a valid bond.

License Number: 017698N.

Name: J C Trans (USA), Inc.

Address: 20416 E. Walnut Drive N, Suite 2-D, Walnut, CA 91789-2919.

Date Revoked: March 7, 2006.

Reason: Failed to maintain a valid bond.

License Number: 018454N.

Name: M.O.T. Intermodal Shipping (NY) Inc.

Address: 1200-A Scottsville Road, Rochester, NY 14624.

Date Revoked: February 5, 2006.

Reason: Surrendered license voluntarily.

License Number: 014059N.

Name: N & A/Willex International.

Address: 1240 Starlite Drive, Milpitas, CA 95035.

Date Revoked: January 5, 2006.

Reason: Failed to maintain a valid bond.

License Number: 015500N.

Name: Reliance Shipping Group, L.L.C.

Address: 12201 Merit Drive, Ste. 790, Dallas, TX 75251.

Date Revoked: January 6, 2006.

Reason: Failed to maintain a valid bond.

License Number: 006935N.

Name: Sea Link (U.S.A.) Inc.

Address: 151-02 132nd Ave., Jamaica, NY 11434.

Date Revoked: February 19, 2006.

Reason: Failed to maintain a valid bond.

License Number: 011325N.

Name: Slade Shipping Inc.

Address: 14811 St. Mary's Lane, Ste. 265, Houston, TX 77079.

Date Revoked: January 5, 2006.

Reason: Failed to maintain a valid bond.

License Number: 013491N.

Name: Suburban Moving & Storage Company.

Address: 2100 Ogden Ave., Lisle, IL 60532.

Date Revoked: January 5, 2006.

Reason: Failed to maintain a valid bond.

License Number: 017853NF.

Name: Sun Island Freight, L.C.

Address: 7794 NW 46th St., Miami, FL 33166.

Date Revoked: November 19, 2005.

Reason: Surrendered license voluntarily.

License Number: 016105F.

Name: Thomas M. McGovern dba Scotia Ocean Services Ltd.

Address: 2810 Silver Falls, Kingwood, TX 77339.

Date Revoked: January 15, 2006.

Reason: Failed to maintain a valid bond.

License Number: 006861N.

Name: Transconex, Incorporated dba Caribe Best Services.

Address: 450 Shattuck Ave., S, #401, Renton, WA 98055.

Date Revoked: February 18, 2006.

Reason: Failed to maintain a valid bond.

License Number: 015574N.

Name: WW Messenger & Shipping Co., Inc.

Address: 20 Main Street, Orange, NJ 07050.

Date Revoked: January 5, 2006.

Reason: Failed to maintain a valid bond.

Peter J. King,
Deputy Director, Bureau of Certification and Licensing.

[FR Doc. E6-4575 Filed 3-28-06; 8:45 am]

BILLING CODE 6730-01-P